DEPARTMENT OF HOUSING AND URBAN DEVELOPMENT

[Docket No. FR-5281-N-39]

Notice of Submission of Proposed Information Collection to OMB; Emergency Comment Request; Indian Housing Block Grant (IHBG) Program (Combined and Simplified Indian Housing Plan and Annual Performance Reporting Requirements)

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal, to assure better understanding of the reporting requirements and consistency in the submission of data.

DATES: June 4, 2010.

ADDRESSES: Interested persons are invited to submit comments regarding this proposal. Comments must be received within seven (14) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Leroy McKinney, Jr., Departmental Reports Management Officer, QDAM, Department of Housing and Urban Development, 451 7th Street, SW., Room 4178, Washington, DC 20410-5000; telephone 202-402-8048, (this is not a toll-free number) or e-mail Mr. McKinney at Leroy.McKinneyJr@hud.gov for a copy of the proposed forms, or other available information. Copies of available documents submitted to OMB may be obtained from Mr. McKinney.

SUPPLEMENTARY INFORMATION: This Notice informs the public that the U.S. Department of Housing and Urban Development (HUD) has submitted to OMB, for emergency processing, a proposed information collection that combines and simplifies reporting for the Indian Housing Plan and Annual Performance Report and reduces the estimated annual burden hours for preparing the combined report.

Recipients of IHBG funds are required to submit an annual Indian Housing Plan (IHP) (HUD-52735) that provides a series of goals and objectives for the recipient to accomplish with the IHBG funds to provide affordable housing for its low- to moderate-income tribal members (Native American Housing Assistance and Self-Determination Act (NAHASDA), § 102).

At the end of each 1-year period the recipient is to submit an Annual Performance Report (APR) (HUD-52735-AS) to (1) Describe the use of grant funds; (2) compare relationship of grant fund use to the IHP goals and objectives; (3) discuss program accomplishments; and (4) describe how the recipient would change its program delivery and implementation based upon the recipient's experience (NAHASDA § 404).

IHBG recipients (tribes and tribally designated housing entities) are required to submit information annually to demonstrate compliance with eligibility and other requirements of NAHASDA and for HUD's annual report to Congress. The information collected enables HUD to maintain its databases in order to monitor a recipient's performance and determine program compliance.

The proposal to create a combined IHP/APR reporting form is necessary for improving the quality of reported data and reducing the burden hours to complete the forms. HUD anticipates that the simplification of the IHP will reduce the average estimated hours to complete the IHP section of the IHP/APR. The simplification of the APR and combining it with the IHP enables recipients to avoid unnecessary data entry while eliminating the need to report on multiple open grants in each APR, thereby improving data quality and reducing reporting burden. In compliance with requirements of 5 CFR 1320.13, the agency cannot reasonably comply with the normal clearance procedures under this part because the statutory changes accelerate the submission of the IHP starting in fiscal year 2011. With implementation of the statutory changes, the IHP is due 75 days prior to the beginning of the grantee's fiscal year. For grantees with a fiscal year beginning in October 1, 2010, the revised IHP will be due July 16, 2010.

Title of Proposed Notice: Indian Housing Block Grant Program (Combined Indian Housing Plan and Annual Performance Reporting Requirements).

Description of Information Collection: This is a revision of a previously approved information collection. The Department of Housing and Urban Development is seeking emergency review of the Paperwork Reduction Act requirements associated with HUD's proposed combined IHP/APR. The combined reporting format will simplify the reporting process, improve the quality of data submitted annually, and reduce the annual burden for recipients IHBG funds. As a result, HUD will receive improved reporting data for monitoring a recipient's performance and determining program compliance.

OMB Control Number: 2577-0218.

Agency Form Numbers: HUD-52735, HUD-52735-AS. (This revision modifies and combines both the HUD-52735 and 52735-AS and requests that the revised combined form be assigned a new form number or letter designation. Prior editions of the HUD-52735 should become obsolete. The HUD-52735-AS will need to be used for approximately three more years.)

Members of Affected Public: Tribes and tribally designated housing entities.

Estimation of the total numbers of hours needed to prepare the information collection including number of respondents, frequency of responses, and hours of responses: The estimated number of respondents is 366; the frequency of response is once per year; and the total reporting burden will reduce significantly from the current total reporting time of 93,308 hours to 52,941 hours.

Authority: The Paperwork Reduction Act of 1995, 44 U.S.C. Chapter 35, as amended.

Dated: May 17, 2010.
Leroy McKinney, Jr.,
Departmental Reports Management Officer, Office of the Chief Information Officer.

[FR Doc. 2010-12221 Filed 5-20-10; 8:45 am]

BILLING CODE 4210-67-P